EXPORT-IMPORT BANK

[Public Notice: 2025-30XX]

Agency Information Collection Activities: Submission to the Office of Management and Budget for Review and Approval; Comment Request; EIB 10-06, Application for Approved Finance Provider

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995.

DATES: Comments must be received on or before August 26, 2025 to be assured of consideration.

ADDRESSES: Comments may be submitted electronically on www.regulations.gov (EIB 10-06) or by mail to Office of Information and Regulatory Affairs, 725 17th Street NW, Washington, DC 20038, Attn: OMB 3048-0032.

The information collection tool can be reviewed at: http://exim.gov/sites/default/files/pub/pending/eib10_06.pdf.

FOR FURTHER INFORMATION CONTACT: To request additional information, please contact Donna Schneider donna.schneider@exim.gov, 202-565-3612.

SUPPLEMENTARY INFORMATION: An AFP may participate in the Medium-Term Insurance, Bank Letter of Credit, and Financial Institution Buyer Credit programs as an insured lender, while AFPs approved for an MGA may apply for multiple loan or lease transactions to be guaranteed by EXIM. Financial institutions interested in becoming an Approved Finance Provider (AFP) with EXIM must complete this application in order to obtain approval to make loans under EXIM insurance policies and/or enter into one or more Master Guarantee Agreements (MGA) with EXIM.

Title and Form Number: EIB 10-06, Application for Approved Finance Provider.

OMB Number: 3048-0032.

Type of Review: Regular.

Need and Use: The information collected will allow EXIM to determine compliance and content for transaction requests submitted to the Export-Import Bank under its insurance, guarantee, and direct loan programs. EXIM uses the information provided in the form and the supplemental information required to be submitted with the form to determine whether the lender qualifies to participate in its lender insurance and guarantee programs. The details are necessary to evaluate whether the lender has the capital to fund potential transactions, proper due diligence procedures, and the monitoring capacity to carry out transactions.

Affected Public: This form affects entities involved in the export of U.S. goods and services.

Annual Number of Respondents: 50.

Estimated Time per Respondent: 30 minutes.

Annual Burden Hours: 25 hours.

Frequency of Reporting of Use: On occasion.

Dated: June 20, 2025.
Andrew Smith,
Records Officer.

[FR Doc. 2025-11556 Filed 6-23-25; 8:45 am]

BILLING CODE 6690-01-P